DEPARTMENT OF COMMERCE

International Trade Administration

[A-588-852]

Structural Steel Beams from Japan: Notice of Antidumping Duty Order

AGENCY: Import Administration, International Trade Administration, Department of Commerce.

ACTION: Notice of Antidumping Duty Order.

EFFECTIVE DATE: June 19, 2000.

FOR FURTHER INFORMATION CONTACT: Juanita H. Chen or Robert A. Bolling, Antidumping and Countervailing Duty Enforcement Group III, Import Administration, International Trade Administration, U.S. Department of Commerce, 14th Street and Constitution Avenue, NW, Washington, DC 20230, at (202) 482-0409, or (202) 482-3434, respectively.

APPLICABLE STATUTE AND REGULATIONS: Unless otherwise indicated, all citations to the Tariff Act of 1930, as amended (“Act”), are to the provisions effective January 1, 1995, the effective date of the amendments made to the Tariff Act by the Uruguay Round Agreements Act (“URAA”). In addition, unless otherwise indicated, all citations to the Department of Commerce's (“Department”) regulations are to the regulations codified at 19 CFR part 351 (April 1, 1998).

Final Determination

On April 18, 2000, the Department determined that structural steel beams from Japan are being, or likely to be, sold in the United States at less than fair value (“LTFV”), as provided in section 735(a) of the Act. See Notice of Final Determination of Sales at Less Than Fair Value: Structural Steel Beams from Japan, 65 FR 24182 (April 25, 2000).

Scope of the Order

For purposes of this order, the products covered are doubly-symmetric shapes, whether hot-or cold-rolled, drawn, extruded, formed or finished, having at least one dimension of at least 80 mm (3.2 inches or more), whether of carbon or alloy (other than stainless) steel, and whether or not drilled, punched, notched, painted, coated, or clad. These products (“Structural Steel Beams”) include, but are not limited to, wide-flange beams (“W” shapes), bearing piles (“HP” shapes), standard beams (“S” or “I” shapes), and M-shapes.

All products that meet the physical and metallurgical descriptions provided above are within the scope of this investigation unless otherwise excluded. The following products, are outside and/or specifically excluded from the scope of this investigation:

• Structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise under investigation is dispositive.

Antidumping Duty Order

On June 9, 2000, the International Trade Commission (“Commission”) notified the Department of its final determination pursuant to section 735(b)(1)(A)(i) of the Act that an industry in the United States is materially injured by reason of less-than-fair-value imports of subject merchandise from Japan. Therefore, in accordance with section 736(a)(1) of the Act, the Department will direct Customs officers to assess, upon further advice by the Department, antidumping duties equal to the amount by which the normal value of the merchandise exceeds the export price (or constructed export price) of the merchandise for all relevant entries of structural steel beams from Japan. These antidumping duties will be assessed on all unliquidated entries of structural steel beams from Japan entered, or withdrawn from warehouse, for consumption on or after February 11, 2000, the date on which the Department published its notice of preliminary determination in the Federal Register. See Notice of Preliminary Determination of Sales at Less Than Fair Value: Structural Steel Beams From Japan, 65 FR 6992 (February 11, 2000). On or after the date of publication of this notice in the Federal Register, Customs officers must require, at the same time as importers would normally deposit estimated duties, cash deposits for the subject merchandise equal to the estimated weighted-average antidumping duty margins as noted below. The “All Others” rate applies to all exporters of subject stainless steel sheet and strip in coils not specifically listed. The revised weighted-average dumping margins are as follows:

Exporter/manufacturer | Weighted-average Margin (in percent)
Kawasaki Steel Corporation | 65.21
Nippon Steel Corporation | 65.21
NKK Corporation/TOA Steel Co., Ltd | 65.21
Sumitomo Metals Industries, Ltd | 65.21
Tokyo Steel Manufacturing Co., Ltd | 65.21
Topy Industries, Limited | 65.21
All Others | 31.98

This notice constitutes the antidumping duty order with respect to structural steel beams from Japan. Interested parties may contact the Department's Central Records Unit, room B-099 of the main Commerce building, for copies of an updated list of antidumping duty orders currently in effect.

This order is published in accordance with section 736(a) of the Tariff Act of 1930, as amended.

Dated: June 14, 2000.
Troy H. Cribb,
Acting Assistant Secretary for Import Administration.

[FR Doc. 00-15520 Filed 6-16-00; 8:45 am]

BILLING CODE 3510-DS-P